DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: The Presidential Initiative Application Forms for Funding Opportunities—New

The Consolidated Health Center Program is administered by the Health Resources and Services Administration's (HRSA) Bureau of Primary Health Care (BPHC). Grant funding opportunities are provided for Health Centers under the Presidential Initiative to Expand Health Centers. These funding opportunities use the following application forms: New Access Point Funding (NAP) form, Service Area Competition (SCA) form, Non-Competing Continuation (NCC) form and Competing Continuation (CC) forms, the Service Expansion (SE) form and the Expanded Medical Capacity (EMC) form for Consolidated Health Centers. These application forms are used by new and current Health Centers to apply for funding.

The five-year President's Initiative to Expand Health Centers will significantly impact 1,200 of the Nation's neediest communities by creating new health center sites. Additional emphasis will be given to improving and strengthening existing sites and expanding existing centers.

BPHC will assist in achieving the Initiative through the various funding opportunities under this Initiative. This year's funding increase supported the development of an additional 100 new access points and 88 significantly expanded access point. New access points will be established by Health Centers targeting the neediest communities using successful Center models. Expanded capacity will be targeted to communities where an existing Health Center's ability to provide care falls short of meeting the full need for services to uninsured and underserved populations. Funding will be provided to Health Centers to support the staff needed to serve a substantial increase in users.

Estimates of annualized reporting burden are as follows:

Type of application form | Number of respondents | Hours per response | Total burden hours
NAP | 500 | 100 | 50,000
SAC | 250 | 100 | 25,000
NCC | 225 | 100 | 22,500
CC | 675 | 100 | 67,500
EMC | 225 | 45 | 10,125
SE | 450 | 45 | 20,250
Total | 2325 | 490 | 195,375

Send comments to Susan G. Queen, Ph.D., HRSA Reports Clearance Officer, Room 14-33, Parklawn Building, 5600 Fishers Lane, Rockville, MD 20857. Written comments should be received within 60 days of this notice.

Dated: October 27, 2003.
Jane M. Harrison,
Director, Division of Policy Review and Coordination.

[FR Doc. 03-28375 Filed 11-12-03; 8:45 am]

BILLING CODE 4165-15-P